DEPARTMENT OF VETERANS AFFAIRS

VA Directive and Handbook 5021, Employee/Management Relations

AGENCY: Department of Veterans Affairs.

ACTION: Notice with request for comments.

SUMMARY: Section 302 of the Veterans Health Care, Capital Asset and Business Improvement Act of 2003 (Public Law 108-170), dated December 6, 2003, authorizes the Secretary of Veterans Affairs to appoint chiropractors as permanent full-time title 38 employees under 38 U.S.C. 7401(1). Also appointed under this authority are physicians, dentists, podiatrists, optometrists, nurses, nurse anesthetists, physician assistants and expanded-function dental auxiliaries. Upon successful completion of probationary status as required by 38 U.S.C. 7403(b), these title 38 employees may file an appeal to a Disciplinary Appeals Board if they are subjected to major adverse action that is based in whole or in part on a question of professional conduct and competence.

As part of its implementation of Public Law 108-170, the Department of Veterans Affairs proposes to revise its Directive and Handbook 5021, Employee/Management Relations, to clarify that chiropractors now have the same right to appeal major adverse actions to Disciplinary Appeal Boards as other title 38 employees. The revisions that are the subject of this notice will amend portions of the following regulations: VA Directive 5021, Appendix A, sections A.1., A.2., C.1. and C.2.; VA Handbook 5021, part II, chapter 1, sections 1 and 2; and VA Handbook 5021, part V, chapter 1, section 1. In some of these sections, the word “chiropractors” has been added to a listing of occupations appointed under 38 U.S.C. 7401(1). In the other sections, Public Law 108-170 has been added to an existing list of statutory references. In all cases, the words or phrases that are proposed to be added to the regulations are shown in brackets. Only those sections of the existing regulations that contain proposed changes are included in this notice.

DATES: Comments must be received on or before June 7, 2004. The effective date of these amendments is 30 days after publication of this notice.

ADDRESSES: Send written comments to: Director, Regulations Management (00REG1), Department of Veterans Affairs, 810 Vermont Avenue, NW., Washington, DC 20420. All comments received will be available for public inspection in the Office of Regulation Policy and Management, Room 1063 B.

FOR FURTHER INFORMATION CONTACT: Jeanette Anderson, Employee Relations Specialist, Department of Veterans Affairs, Office of Human Resources Management (051E), 810 Vermont Avenue, NW., Washington, DC 20420. Ms. Anderson may be reached at (202) 273-9901.

SUPPLEMENTARY INFORMATION: Title 38 U.S.C. 7461(e) requires that “[w]henever the Secretary proposes to prescribe regulations [relating to Disciplinary Appeals Boards] under this subchapter, the Secretary shall publish the proposed regulations in the Federal Register for notice and comment not less the 30 days before the day on which they take effect.”

Proposed Revisions to VA Directive 5021, Employee/Management Relations Appendix A. Disciplinary and Grievance Procedures

Section A. Disciplinary and Major Adverse Actions

1. Scope and Authority

a. This section governs disciplinary and major adverse actions based on conduct or performance in the Department of Veterans Affairs (VA). The provisions of this section apply to VA employees holding a full-time, permanent appointment under 38 U.S.C. 7401(1) who have satisfactorily completed the probationary period required by 38 U.S.C. 7403(b). Included in this category are: physicians, dentists, podiatrists, [chiropractors,] optometrists, nurses, nurse anesthetists, physician assistants, expanded-function dental auxiliaries. Henceforth, “employee(s)” will be the term used to refer to the above categories in this section, unless otherwise specified.

b. This chapter does not apply to employees appointed under 38 U.S.C., chapters 3, 71 or 78, or to employees appointed under 38 U.S.C. 7306, 38 U.S.C. 7401(3), 38 U.S.C. 7405, or 38 U.S.C. 7406.

(Authority: 38 U.S.C. 501(a), 7401, 7403(b), 7405, [7421,] 38 U.S.C. 7461-7464.)

2. References

a. Section 203 of the Department of Veterans Affairs Health-Care Personnel Act of 1991 (Pub. L. 102-40).

b. Section 302 of the Veterans Health Care, Capital Asset and Business Improvement Act of 2003 (Pub. L. 108-170).

c. Title 38, United States Code, chapter 74.

Section C. Appeals to the Disciplinary Appeals Board

1. Scope, Authority and Definitions

This section governs appeals of major adverse actions which arise out of, or which include, a question of professional conduct or competence in the Department of Veterans Affairs (VA). Major adverse actions are suspensions (including indefinite suspensions), transfers, reductions in grade, reductions in basic pay, and discharges. A question of professional conduct or competence involves direct patient care and/or clinical competence. The term clinical competence include issues of professional judgment. This section applies to VA employees holding a full-time, permanent appointment under 38 U.S.C. 7401(1) who have satisfactorily completed the probationary period required by 38 U.S.C. 7403(b). Included in this category are: physicians, dentists, podiatrists, [chiropractors,] optometrists, nurses, nurse anesthetists, physician assistants and expanded-function dental auxiliaries. The (preceding) categories of individuals are included in the term “employee(s)” as used in this section unless otherwise specified.

(Authority: 38 U.S.C. 501(a), 7401, 7403(b), 7421, 38 U.S.C. 7461-7464.)

2. References

a. Section 203 of the Department of Veterans Affairs Health-Care Personnel Act of 1991 (Pub. L. 102-40).

[b. Section 302 of the Veterans Health Care, Capital Asset and Business Improvement Act of 2003 (Pub. L. 108-170).]

[c.] 38 U.S.C. 501(a), 7421, 7461, 7462, 7464.

Proposed Revisions to VA Handbook 5021, Employee/Management Relations

Part II. Disciplinary Procedures Under Title 38 Chapter 1. Disciplinary and Major Adverse Actions

1. Scope

a. This part governs disciplinary and major adverse actions based on conduct or performance in the Department of Veterans Affairs (VA).

(1) The provisions of this chapter apply to VA employees holding a full-time, permanent appointment under 38 United States Code (U.S.C.) 7401(1) who have satisfactorily completed the probationary period required by 38 U.S.C. 7403(b). Included are:

(a) Physicians,

(b) Dentists,

(c) Podiatrists,

[(d)] [Chiropractors,]

[(e)] Optometrists,

[(f)] Nurses,

[(g)] Nurse anesthetists,

[(h)] Physician assistants, and

[(i)] Expanded-function dental auxiliaries.

(2) Henceforth, “employee(s)” will be the term used to refer to the covered occupations in this chapter, unless otherwise specified.

(3) This part should be used in conjunction with VA Directive 5021.

b. This chapter does not apply to employees appointed under 38 U.S.C., chapters 3, 71 or 78, or to employees appointed under 38 U.S.C. 7306, 38 U.S.C. 7401(3), 38 U.S.C. 7405, or 38 U.S.C. 7406.

2. Authority

a. Section 203 of the Department of Veterans Affairs Health Care Personnel Act of 1991 Public Law (Pub. L.) 102-40.

[b. Section 302 of the Veterans Health Care, Capital Asset and Business Improvement Act of 2003 (Pub. L. 108-170).]

[c.] 38 U.S.C. 501(a), 38 U.S.C. 7304 [, 7421].

d. Title 38, U.S.C., chapter 74.

Part V. Title 38 Appeals to the Disciplinary Appeals Board Chapter 1. General

1. Scope, Authority and Definitions

This chapter applies to Department of Veterans Affairs (VA) employees holding a full-time, permanent appointment under 38 U.S.C. 7401(1) who have satisfactorily completed the probationary period required by 38 U.S.C. 7403(b). Included in this category are: physicians, dentists, podiatrists, [chiropractors,] optometrists, nurses, nurse anesthetists, physician assistants and expanded-function dental auxiliaries. These categories of individuals are included in the term “employee(s)” as used in this chapter unless otherwise specified. This chapter governs appeals of major adverse actions which arise out of, or which include, a question of professional conduct or competence in VA. Major adverse actions are suspensions (including indefinite suspensions), transfers, reductions in grade, reductions in basic pay, and discharges. A question of professional conduct or competence involves direct patient care and/or clinical competence. The term clinical competence includes issues of professional judgment.

Dated: April 29, 2004.
Anthony J. Principi,
Secretary of Veterans Affairs.

[FR Doc. 04-10254 Filed 5-5-04; 8:45 am]

BILLING CODE 8320-01-P